DEPARTMENT OF TRANSPORTATION

Federal Aviation Administration

Twenty-Seventh Meeting: RTCA Special Committee 216 (SC-216) Aeronautical Systems Security

AGENCY: Federal Aviation Administration (FAA), U.S. Department of Transportation (DOT).

ACTION: Notice of Twenty-Seventh RTCA Special Committee 216 Meeting.

SUMMARY: The FAA is issuing this notice to advise the public of the Twenty-Seventh RTCA Special Committee 216 meeting.

DATES: The meeting will be held June 15-17, 2016 from 9:00 a.m.-5:00 p.m.

ADDRESSES: The meeting will be held at RTCA, Inc., 1150 18th Street NW., Suite 910, Washington, DC 20036.

FOR FURTHER INFORMATION CONTACT: The RTCA Secretariat, 1150 18th Street NW., Suite 910, Washington, DC, 20036, or by telephone at (202) 833-9339, fax at (202) 833-9434, or Web site at http://www.rtca.org or Karan Hofmann, Program Director, RTCA, Inc., khofmann@rtca.org, (202) 330-0680.

SUPPLEMENTARY INFORMATION: Pursuant to section 10(a)(2) of the Federal Advisory Committee Act (Pub. L. 92-463, 5 U.S.C., App.), notice is hereby given for a meeting of RTCA Special Committee 216. The agenda will include the following:

Wednesday, June 15, 2016 (1:00 p.m.-5:00 p.m.)

1. Welcome and Administrative Remarks

2. Introductions

3. Agenda Review

4. Meeting—Minutes Review

5. ARAC ASISP Update

6. WG-72 Update

7. Working Paper Review

8. Schedule Update

9. Date, Place and Time of Next Meeting

10. New Business

11. Adjourn Plenary

Thursday, June 16, 2016 (9:00 a.m.-5:00 p.m.)

1. Continuation of Plenary or Working Group Sessions

Friday, June 17, 2016 (9:00 a.m.-3:00 p.m.)

1. Continuation of Plenary or Working Group Sessions

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on May 16, 2016.
Latasha Robinson,
Management & Program Analyst, NextGen, Enterprise Support Services Division, Federal Aviation Administration.

[FR Doc. 2016-11910 Filed 5-18-16; 8:45 am]

BILLING CODE 4910-13-P